DEPARTMENT OF COMMERCE

International Trade Administration

[C-351-851; C-602-811; C-834-808]

Silicon Metal From Australia, Brazil, and Kazakhstan: Initiation of Countervailing Duty Investigations

AGENCY: Enforcement and Compliance, International Trade Administration, Department of Commerce.

DATES: Effective March 28, 2017.

FOR FURTHER INFORMATION CONTACT: Katherine Johnson at (202) 482-4929 (Australia); Bob Palmer at (202) 482-9068 (Brazil); and Terre Keaton Stefanova at (202) 482-1280 (Kazakhstan), AD/CVD Operations, Enforcement and Compliance, International Trade Administration, U.S. Department of Commerce, 1401 Constitution Avenue NW., Washington, DC 20230.

SUPPLEMENTARY INFORMATION:

The Petitions

On March 8, 2017, the Department of Commerce (the Department) received countervailing duty (CVD) petitions concerning imports of silicon metal from Australia, Brazil, and Kazakhstan, filed in proper form on behalf of Globe Specialty Metals, Inc. (the petitioner). With the exception of Kazakhstan, the remaining CVD petitions were accompanied by antidumping duty (AD) petitions concerning imports of silicon metal from the above countries and Norway.¹ The petitioner is a domestic producer of silicon metal.²

¹ See “Silicon Metal from Australia, Brazil, Kazakhstan, and Norway; Antidumping and Countervailing Duty Petition,” dated March 8, 2017 (Petitions).

² Id., Volume I at 1.

On March 9, 2017, and March 13, 2017, the Department requested supplemental information pertaining to certain areas of the Petitions with respect to Australia ³ and Brazil. ⁴ The petitioner filed responses to these requests on March 14, 2017, and March 15, 2017.5 6

³ See Letter from the Department, “Petition for the Imposition of Countervailing Duties on Imports of Silicon Metal from Australia: Supplemental Questions,” March 13, 2017.

⁴ See Letter from the Department “Petition for the Imposition of Countervailing Duties on Imports of Silicon Metal from Brazil: Supplemental Questions,” March 9, 2017; see also Memorandum to the File from Bob Palmer, “Countervailing Duty Investigation on Silicon Metal from Brazil: Phone Call with Petitioner,” March 15, 2017.

⁵ See Letter from the petitioner, re: “Silicon Metal from Brazil; Countervailing Duty Investigation; Response to Deficiency Questionnaire,” dated March 14, 2017, and Letter from the petitioners, re: “Silicon Metal from Australia; Countervailing Duty Investigation; Response to Deficiency Questionnaire,” dated March 15, 2017.

⁶ The petitioner also submitted information regarding the average useful life of assets used to produced silicon metal on the record of the Kazakhstan proceeding. See Letter from the petitioner, re: “Silicon Metal from Kazakhstan; Countervailing Duty Investigation; Information on Useful Lives of Assets,” dated March 15, 2017.

In accordance with section 702(b)(1) of the Tariff Act of 1930, as amended (the Act), the petitioner alleges that imports of silicon metal from Australia, Brazil, and Kazakhstan received countervailable subsidies from the Governments of Australia, Brazil, and Kazakhstan, respectively, within the meaning of sections 701 and 771(5) of the Act, and that such imports are materially injuring, or threatening material injury to, an industry in the United States. Also, consistent with section 702(b)(1) of the Act, for those alleged programs on which we are initiating CVD investigations, the Petitions are accompanied by information reasonably available to the petitioner supporting their allegations.

The Department finds that the petitioner filed the Petitions on behalf of the domestic industry because the petitioner is an interested party as defined in section 771(9)(C) of the Act. The Department also finds that the petitioner demonstrated sufficient industry support with respect to the initiation of the CVD investigations that the petitioner is requesting.⁷

⁷ See “Determination of Industry Support for the Petitions” section, below.

Period of Investigations

Because the petitions were filed on March 8, 2017, the period of investigation (POI) for each investigation is January 1, 2016, through December 31, 2016.⁸

⁸ See 19 CFR 351.204(b)(2).

Scope of the Investigations

The product covered by these investigations is silicon metal from Australia, Brazil, and Kazakhstan. For a full description of the scope of these investigations, see Appendix I of this notice.

Comments on Scope of the Investigations

As discussed in the preamble to the Department's regulations, we are setting aside a period for interested parties to raise issues regarding product coverage (scope). The Department will consider all comments received from parties and, if necessary, will consult with parties prior to the issuance of the preliminary determinations. If scope comments include factual information (see 19 CFR 351.102(b)(21)), all such factual information should be limited to public information. To facilitate preparation of its questionnaires, the Department requests all interested parties to submit such comments by 5:00 p.m. Eastern Time (ET) on April 17, 2017, which is 20 calendar days from the signature date of this notice. Any rebuttal comments, which may include factual information (also limited to public information), must be filed by 5:00 p.m. ET (Eastern Time) on April 27, 2017, which is 10 calendar days after the initial comments. All such comments must be filed on the records of each of the concurrent AD and CVD investigations.

The Department requests that any factual information the parties consider relevant to the scope of these investigations be submitted during this time period. However, if a party subsequently believes that additional factual information pertaining to the scope of the investigations may be relevant, the party may contact the Department and request permission to submit the additional information. As stated above, all such comments must be filed on the records of each of the concurrent AD and CVD investigations.

Filing Requirements

All submissions to the Department must be filed electronically using Enforcement and Compliance's Antidumping and Countervailing Duty Centralized Electronic Service System (ACCESS).⁹ An electronically-filed document must be received successfully in its entirety by the time and date it is due. Documents excepted from the electronic submission requirements must be filed manually (i.e., in paper form) with Enforcement and Compliance's APO/Dockets Unit, Room 18022, U.S. Department of Commerce, 1401 Constitution Avenue NW., Washington, DC 20230, and stamped with the date and time of receipt by the applicable deadlines.

⁹ See 19 CFR 351.303 (for general filing requirements); see also Antidumping and Countervailing Duty Proceedings: Electronic Filing Procedures; Administrative Protective Order Procedures, 76 FR 39263 (July 6, 2011), for details of the Department's electronic filing requirements, which went into effect on August 5, 2011. Information on help using ACCESS can be found at https://access.trade.gov/help.aspx, and a handbook can be found at https://access.trade.gov/help/Handbook%20on%20Electronic%20Filling%20Procedures.pdf.

Consultations

Pursuant to section 702(b)(4)(A)(i) of the Act, the Department notified representatives of the Governments of Australia, Brazil and Kazakhstan of the receipt of the Petitions. Also, following invitations extended in accordance with section 702(b)(4)(A)(ii) of the Act, on March 16, 20 and 24, 2017, respectively, consultations with the Governments of Australia, Brazil and Kazakhstan at the Department's main building. Memoranda regarding these consultations are available electronically via ACCESS.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹⁰ they do so for different purposes and pursuant to a separate and distinct authority. In addition, the Department's determination is subject to limitations of time and information. Although this may result in different definitions of the like product, such differences do not render the decision of either agency contrary to law.¹¹

¹⁰ See section 771(10) of the Act.

¹¹ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

Regarding the domestic like product, the petitioner does not offer a definition of the domestic like product distinct from the scope of these investigations. Based on our analysis of the information submitted on the record, we have determined that silicon metal, as defined in the scope, constitutes a single domestic like product and we have analyzed industry support in terms of that domestic like product.¹²

¹² For a discussion of the domestic like product analysis in this case, see Countervailing Duty Investigation Initiation Checklist: Silicon Metal from Australia (Australia CVD Initiation Checklist), at Attachment II, Analysis of Industry Support for the Antidumping and Countervailing Duty Petitions Covering Silicon Metal from Australia, Brazil, Kazakhstan, and Norway (Attachment II); Countervailing Duty Investigation Initiation Checklist: Silicon Metal from Brazil (Brazil CVD Initiation Checklist), at Attachment II; and Countervailing Duty Investigation Initiation Checklist: Silicon Metal from Kazakhstan (Kazakhstan CVD Initiation Checklist), at Attachment II. These checklists are dated concurrently with this notice and on file electronically via ACCESS. Access to documents filed via ACCESS is also available in the Central Records Unit, Room B8024 of the main Department of Commerce building.

In determining whether the petitioner has standing under section 702(c)(4)(A) of the Act, we considered the industry support data contained in the Petitions with reference to the domestic like product as defined in the “Scope of the Investigations,” in Appendix I of this notice. The petitioner provided its own production of the domestic like product in 2016, as well as estimated 2016 production data of the domestic like product by the entire U.S. industry.¹³ The petitioner also provided a letter from the United Steel, Paper and Forestry, Rubber, Manufacturing, Energy, Allied Industrial and Service Workers International Union (USW), stating that the USW represents the workers at the petitioner's Alloy, WV and Niagara Falls, NY silicon metal plants and it supports the Petitions.¹⁴ In addition, the petitioner provided a letter of support for the Petitions from the Industrial Division of the Communications Workers of America (IEU-CWA), stating that the IEU-CWA represents the workers at the petitioner's Selma, AL plant and it supports the Petitions.¹⁵ To establish industry support, the petitioner compared its production to the total 2016 production of the domestic like product for the entire domestic industry.¹⁶ We relied on the data the petitioner provided for purposes of measuring industry support.¹⁷

¹³ See Petitions, Volume I at 1, 3-4 and Exhibits I-1 and I-2.

¹⁴ See Petitions, Volume I at 4 and Exhibit I-5.

¹⁵ Id., at 4 and Exhibit I-6.

¹⁶ Id., at 3-4 and Exhibit I-2.

¹⁷ Id. For further discussion, see Australia CVD Initiation Checklist, at Attachment II; Brazil CVD Initiation Checklist, at Attachment II; and Kazakhstan CVD Initiation Checklist, at Attachment II.

Our review of the data provided in the Petitions and other information readily available to the Department indicates that the petitioner has established industry support.¹⁸ First, the Petitions established support from domestic producers (or workers) accounting for more than 50 percent of the total production of the domestic like product and, as such, the Department is not required to take further action in order to evaluate industry support (e.g., polling).¹⁹ Second, the domestic producers (or workers) have met the statutory criteria for industry support under section 702(c)(4)(A)(i) of the Act because the domestic producers (or workers) who support the Petitions account for at least 25 percent of the total production of the domestic like product.²⁰ Finally, the domestic producers (or workers) have met the statutory criteria for industry support under section 702(c)(4)(A)(ii) of the Act because the domestic producers (or workers) who support the Petitions account for more than 50 percent of the production of the domestic like product produced by that portion of the industry expressing support for, or opposition to, the Petitions.²¹ Accordingly, the Department determines that the Petitions were filed on behalf of the domestic industry within the meaning of section 702(b)(1) of the Act.

¹⁸ See Australia CVD Initiation Checklist, at Attachment II; Brazil CVD Initiation Checklist, at Attachment II; and Kazakhstan CVD Initiation Checklist, at Attachment II.

¹⁹ See section 702(c)(4)(D) of the Act; see also Australia CVD Initiation Checklist, at Attachment II; Brazil CVD Initiation Checklist, at Attachment II; and Kazakhstan CVD Initiation Checklist, at Attachment II.

²⁰ See Australia CVD Initiation Checklist, at Attachment II; Brazil CVD Initiation Checklist, at Attachment II; and Kazakhstan CVD Initiation Checklist, at Attachment II.

²¹ Id.

The Department finds that the petitioner filed the Petitions on behalf of the domestic industry because it is an interested party as defined in section 771(9)(C) of the Act and it has demonstrated sufficient industry support with respect to the CVD investigations that it is requesting the Department initiate.²²

²² Id.

Injury Test

Because Australia, Brazil, and Kazakhstan are “Subsidies Agreement Countries” within the meaning of section 701(b) of the Act, section 701(a)(2) of the Act applies to these investigations. Accordingly, the ITC must determine whether imports of the subject merchandise from these countries materially injure, or threaten material injury to, a U.S. industry.

Allegations and Evidence of Material Injury and Causation

The petitioner alleges that imports of the subject merchandise are benefitting from countervailable subsidies and that such imports are causing, or threaten to cause, material injury to the U.S. industry producing the domestic like product. In addition, the petitioner alleges that subject imports exceed the negligibility thresholds provided for under section 771(24)(A) of the Act.²³ The petitioner also demonstrates that subject imports from Brazil, which has been designated as a developing country under section 771(36)(A) of the Act, exceed the negligibility threshold of four percent provided for under section 771(24)(B) of the Act.²⁴

²³ See Petitions, Volume I at 38-39 and Exhibit I-45.

²⁴ Id.

The petitioner contends that the industry's injured condition is illustrated by reduced market share; underselling and price suppression or depression; lost sales and revenues; declines in production, production capacity, capacity utilization, and U.S. shipments; increase in inventories; declines in average number of workers, hours worked, and wages paid; and declines in financial performance.²⁵ We have assessed the allegations and supporting evidence regarding material injury, threat of material injury, and causation, and we have determined that these allegations are properly supported by adequate evidence, and meet the statutory requirements for initiation.²⁶

²⁵ See Petitions, Volume I at 25-53 and Exhibits I-1, I-2, I-11—I-16, I-20, I-21, and I-30—I-60; see also Silicon Metal from Australia, Brazil, Kazakhstan, and Norway; Antidumping and Countervailing Duty Petition: Revised Exhibit I-46, dated March 14, 2017.

²⁶ See Australia CVD Initiation Checklist, at Attachment III, Analysis of Allegations and Evidence of Material Injury and Causation for the Antidumping and Countervailing Duty Petitions Covering Silicon Metal from Australia, Brazil, Kazakhstan, and Norway (Attachment III); see also Brazil CVD Initiation Checklist, at Attachment III; and Kazakhstan CVD Initiation Checklist, at Attachment III.

Initiation of CVD Investigations

Section 702(b)(1) of the Act requires the Department to initiate a CVD investigation whenever an interested party files a CVD petition on behalf of an industry that (1) alleges the elements necessary for an imposition of a duty under section 701(a) of the Act and (2) is accompanied by information reasonably available to the petitioner supporting the allegations.

The petitioner alleges that producers/exporters of silicon metal in Australia, Brazil, and Kazakhstan benefit from countervailable subsidies bestowed by the governments of these countries, respectively. The Department examined the Petitions and finds that they comply with the requirements of section 702(b)(1) of the Act. Therefore, in accordance with section 702(b)(1) of the Act, we are initiating these CVD investigations to determine whether manufacturers, producers, and/or exporters of silicon metal from Australia, Brazil, and Kazakhstan receive countervailable subsidies from the governments of these countries, respectively.

Under the Trade Preferences Extension Act of 2015, numerous amendments to the AD and CVD laws were made.²⁷ The amendments to sections 776 and 782 of the Act are applicable to all determinations made on or after August 6, 2015, and, therefore, apply to these CVD investigations.²⁸

²⁷ See Trade Preferences Extension Act of 2015, Public Law 114-27, 129 Stat. 362 (2015). See also, Dates of Application of Amendments to the Antidumping and Countervailing Duty Laws Made by the Trade Preferences Extension Act of 2015, 80 FR 46793 (August 6, 2015) (Applicability Notice).

²⁸ See Applicability Notice, 80 FR at 46794-95.

Australia

Based on our review of the petition, we find that there is sufficient information to initiate a CVD investigation on all three alleged programs. For a full discussion of the basis for our decision to initiate on each program, see the Australia CVD Initiation Checklist.

Brazil

Based on our review of the petition, we find that there is sufficient information to initiate a CVD investigation on all six alleged programs. For a full discussion of the basis for our decision to initiate on each program, see the Brazil CVD Initiation Checklist.

Kazakhstan

Based on our review of the petition, we find that there is sufficient information to initiate a CVD investigation on five of the six alleged programs. For a full discussion of the basis for our decision to initiate or not initiate on each program, see the Kazakhstan CVD Initiation Checklist.

A public version of the initiation checklist for each investigation is available on ACCESS.

In accordance with section 703(b)(1) of the Act and 19 CFR 351.205(b)(1), unless postponed, we will make our preliminary determinations no later than 65 days after the date of this initiation.

Respondent Selection

Based on information from independent sources, the petitioner identified one company in Australia,²⁹ five companies in Brazil,³⁰ and two companies in Kazakhstan as producers/exporters of silicon metal.³¹ With respect to Brazil, following standard practice in CVD investigations, in the event the Department determines that the number of companies is large, the Department intends to review U.S. Customs and Border Protection (CBP) data for U.S. imports under the appropriate HTSUS numbers listed with the “Scope of the Investigations,” in Appendix I, below; and if it determines that it cannot individually examine each company based upon the Department's resources, then the Department will select respondents based on those data. We also intend to release the CBP data under Administrative Protective Order (APO) to all parties with access to information protected by APO. Comments regarding the CBP data and respondent selection should be submitted seven calendar days after the placement of the CBP data on the record of the investigation. Parties wishing to submit rebuttal comments should submit those comments five calendar days after the deadline for the initial comments.

²⁹ See Petitions, Volume I at 15-16 and Exhibit I-19 and 20.

³⁰ See Petitions, Volume I at 16-19 and Exhibit I-20 and 21.

³¹ See Petitions, Volume I at 19 and Exhibit I-20.

Although the Department normally relies on the number of producers/exporters identified in the petition and/or import data from CBP to determine whether to select a limited number of producers/exporters for individual examination in CVD investigations, the petitioner identified only one company as a producer/exporter of silicon metal in Australia: Simcoa Operations Pty Ltd., and two companies in Kazakhstan: (1) LLP Tau-Ken Temir, and; (2) LLP Metallurgical Combine Kaz Silicon. We currently know of no additional producers/exporters of merchandise under consideration from Australia and Kazakhstan and the petitioner provided information from independent sources as support.³² Accordingly, the Department intends to examine all known producers/exporters in the investigations for Australia and Kazakhstan (i.e., the companies cited above for each respective investigation). Parties wishing to comment on respondent selection for Australia and Kazakhstan must do so within five days of the publication of this notice in the Federal Register.

³² See Petitions, Volume I at Exhibits I-17 and I-20.

Comments must be filed electronically using ACCESS. An electronically-filed document must be received successfully, in its entirety, by ACCESS no later than 5:00 p.m. ET on the date noted above. We intend to finalize our decision regarding respondent selection within 20 days of publication of this notice.

Distribution of Copies of the Petitions

In accordance with section 702(b)(4)(A)(i) of the Act and 19 CFR 351.202(f), a copy of the public version of the Petitions have been provided to the Governments of Australia, Brazil and Kazakhstan via ACCESS. To the extent practicable, we will attempt to provide a copy of the public version of the Petitions to each known exporter (as named in the Petitions), consistent with 19 CFR 351.203(c)(2).

ITC Notification

We will notify the ITC of our initiation, as required by section 702(d) of the Act.

Preliminary Determinations by the ITC

The ITC will preliminarily determine, within 45 days after the date on which the Petitions were filed, whether there is a reasonable indication that imports of silicon metal from Australia, Brazil, and/or Kazakhstan are materially injuring, or threatening material injury to, a U.S. industry.³³ A negative ITC determination will result in the investigation being terminated with respect to that country.³⁴ Otherwise, these investigations will proceed according to statutory and regulatory time limits.

³³ See section 703(a)(2) of the Act.

³⁴ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). Any party, when submitting factual information, must specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Parties should review the regulations prior to submitting factual information in these investigations.

Extension of Time Limits Regulation

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.³⁵ Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³⁶ The Department intends to reject factual submissions if the submitting party does not comply with the applicable revised certification requirements.

³⁵ See section 782(b) of the Act.

³⁶ See Certification of Factual Information To Import Administration During Antidumping and Countervailing Duty Proceedings, 78 FR 42678 (July 17, 2013) (“Final Rule”); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702 and 777(i) of the Act.

Dated: March 28, 2017.
Ronald K. Lorentzen,
Acting Assistant Secretary for Enforcement and Compliance.

Appendix I

Scope of the Investigations

The scope of these investigation covers all forms and sizes of silicon metal, including silicon metal powder. Silicon metal contains at least 85.00 percent but less than 99.99 percent silicon, and less than 4.00 percent iron, by actual weight. Semiconductor grade silicon (merchandise containing at least 99.99 percent silicon by actual weight and classifiable under Harmonized Tariff Schedule of the United States (HTSUS) subheading 2804.61.0000) is excluded from the scope of these investigations.

Silicon metal is currently classifiable under subheadings 2804.69.1000 and 2804.69.5000 of the HTSUS. While HTSUS numbers are provided for convenience and customs purposes, the written description of the scope remains dispositive.

[FR Doc. 2017-06622 Filed 4-3-17; 8:45 am]

BILLING CODE 3510-DS-P